DEPARTMENT OF TRANSPORTATION

Coast Guard

33 CFR Part 117

[CGD09-01-003]

RIN-2115-AE47

Drawbridge Operation Regulations; Trail Creek, IN

AGENCY: Coast Guard, DOT.

ACTION: Notice of proposed rulemaking.

SUMMARY: The Coast Guard proposes to revise the operating regulation governing moveable bridges on Trail Creek in Michigan City, Indiana. The proposed rule would establish twice-an-hour openings for the Franklin Street bridge, mile 0.5, and revise the current regulation for the Amtrak bridge, mile 0.85.

DATES: Comments must be received on or before April 30, 2001.

ADDRESSES: Comments may be mailed or delivered to: Commander (obr), Ninth Coast Guard District, 1240 East Ninth Street, Room 2019, Cleveland, OH, 44199-2060 between 6:30 a.m. and 3 p.m., Monday through Friday, except Federal holidays. The telephone number is (216) 902-6084.

FOR FURTHER INFORMATION CONTACT: Mr. Scot M. Striffler, Project Manager, Ninth Coast Guard District Bridge Branch, at (216) 902-6084.

SUPPLEMENTARY INFORMATION:

Request for Comments

The Coast Guard encourages interested persons to participate in this rulemaking by submitting written data, views or arguments for or against this rule. Persons submitting comments should include names and addresses, identify the rulemaking [CGD09-01-003] and the specific section of this proposal to which each comment applies, and give the reason(s) for each comment. Please submit all comments and attachments in an unbound format, no larger than 8½ by 11 inches, suitable for copying and electronic filing. Persons wanting acknowledgement of receipt of comments should enclose a stamped, self-addressed postcard or envelope.

The Coast Guard plans no public hearing. Individuals may request a public hearing by writing to the address under ADDRESSES. The request should include the reasons why a hearing would be beneficial. If the Coast Guard determines that the opportunity for oral presentation will aid this rulemaking, they will hold a public hearing at a time and place announced in the Federal Register.

Background and Purpose

The owner of the Franklin Street bridge, LaPorte County Highway Department, IN, requested the Coast Guard approve a modified schedule for the bridge to reduce vehicular traffic delays in the vicinity of the bridge during the peak tourist season and to establish a permanent winter operating schedule. The current regulation for the Amtrak bridge is obsolete and does not accurately reflect current train and vessel operations at that location.

The Amtrak bridge is currently required to open on signal between the hours of 6:30 a.m. and 2:30 p.m., except Sundays, from February 16 through December 14. The bridge is not required to be manned all other times and would be opened within 20 minutes following notification to the Amtrak dispatcher in Chicago. The Coast Guard has determined that this schedule does not provide for the reasonable needs of navigation and places undue burden on vessel operators wishing to pass the draw. Amtrak representatives concur with this finding. Also, the bridge is currently manned during periods of no vessel traffic on the waterway during winter months, placing an undue burden on the railroad. The proposed regulation would establish operating hours and dates that more accurately reflect the needs of navigation, and would allow the bridge to be unmanned during periods of no train traffic and during winter months when there is no navigation.

The Franklin Street bridge is located in a highly congested section of Michigan City, and adjacent to a park area that is visited by a large number of residents and tourists between April 1 and December 1 each year. LaPorte County Highway Dept., acting on behalf of the City of Michigan City, has asked the Coast Guard to regulate bridge openings to coincide with the park hours to alleviate vehicular traffic congestion in the area, while still providing for the reasonable needs of navigation.

Discussion of Proposed Rule

The opening schedule for Franklin Street bridge is currently governed by the general articles of Subpart A in 33 CFR Part 117. Under the proposed rule, the bridge would open on signal from March 16 through November 30, except from 6:15 a.m. to 11:15 p.m., Monday through Sunday, the bridge would open only from three minutes before to three minutes after the quarter-hour and three-quarter hour. The bridge would open at all times for public vessels, vessels in distress, and vessels seeking shelter from severe weather. From December 1 through March 15, the bridge would open for vessels if at least 12-hours advance notice is provided. The largest marinas in Michigan City are located in the park area, with no need for most vessels to pass Franklin Street bridge. By scheduling openings for vessels between the hours of 6:15 a.m. and 11:15 p.m., vehicles going in and out of the park area would not create a congestion problem for the city during park hours, while still providing for the reasonable needs of navigation. This schedule has been employed and accepted on a voluntary basis by vessel operators upstream of the bridge for at least five years. Bridge logs submitted by the LaPorte County Highway Department showed two openings for vessels between December 1, 1998, and March 14, 1999. The logs indicate that the majority of openings for vessels occur between April 1 and October 30. The proposed rule would ensure that the bridge is manned between March 16 and November 30.

Regulatory Evaluation

This proposed rule is not a significant regulatory action under section 3(f) of Executive Order 12866 and does not require an assessment of potential costs and benefits under section 6(a)(3) of that order. The Office of Management and Budget has not reviewed it under that Order. It is not significant under the regulatory policies and procedures of the Department of Transportation (DOT) (44 FR 11040; February 26, 1979). The Coast Guard expects the economic impact of this proposed rule to be so minimal that a full Regulatory Evaluation under paragraph 10e of the regulatory policies and procedures of DOT is unnecessary.

This determination is based on the fact that this proposed rule would not eliminate bridge openings for any vessels, but would only require vessels to pass during scheduled periods throughout the peak navigation season (March 15 to December 1). The bridges would still open between December 1 and March 15 if 12-hour advance notice is provided.

Small Entities

Under the Regulatory Flexibility Act (5 U.S.C. 601 et seq.), the Coast Guard must consider whether this proposed rule will have a significant impact on a substantial number of small entities. “Small entities” may include small businesses and not-for-profit organizations that are independently owned and operated and are not dominant in their fields, and governmental jurisdictions with populations of less than 50,000 people.

The small entities identified (approximately 3 charter fisherman and 1 tug operator) do not represent a substantial number of entities that would be affected by this proposed rule. Most vessels that must pass Franklin Street bridge are pleasure craft. According to LaPorte County Highway Dept., the charter fisherman can pass Franklin Street in the closed position once all lowerable appurtenances on their vessels are adjusted. Otherwise, the scheduled openings would still satisfy the reasonable needs for these few vessels. The 12-hour advance notice requirement during winter months is a standard practice on the Great Lakes and still provides for bridge openings with advance notice from vessel operators.

Therefore, the Coast Guard certifies under 5 U.S.C 605(b) that this proposed rule will not have a significant economic impact on a substantial number of small entities.

If you think that your business, organization, or governmental jurisdiction qualifies as a small entity and that this proposed rule would have a significant economic impact on it, please submit a comment (see ADDRESSES) explaining why you think it qualifies and how and to what degree this proposed rule would economically affect it.

Collection of Information

This proposed rule would call for no new collection of information requirement under the Paperwork Reduction Act (44 U.S.C. 3501 et seq.).

Federalism

The Coast Guard has analyzed this proposed rule under the principles and criteria contained in Executive Order 13132, and determined that this rule does not have federalism implications under that Order.

Unfunded Mandates Reform Act

The Unfunded Mandates Reform Act of 1995 (2 U.S.C. 1531-1538) governs the issuance of federal regulations that require unfunded mandates. An unfunded mandate is a regulation that requires a state, local, or tribal government or the private sector to incur direct costs without the federal government having first provided the funds to pay those unfunded mandate costs. This proposed rule will not impose an unfunded mandate.

Taking of Private Property

This proposed rule will not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and does not concern an environmental risk to health or risk to safety that may disproportionately affect children.

Environment

The Coast Guard considered the environmental impact of this proposed rule and concluded that, under figure 2-1, paragraph 34(g) of Commandant Instruction M16475.lC, this rule is categorically excluded from further environmental documentation. This proposed rule changes a drawbridge regulation which has been found not to have a significant effect on the environment. A Categorical Exclusion Determination is not required.

List of Subjects in 33 CFR Part 117

Bridges.

For the reasons set out in the preamble, the Coast Guard proposes to revise Part 117 of Title 33, Code of Federal Regulations, as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 106 Stat. 5039.

2. Revise § 117.401 to read as follows:

§ 117.401 Trail Creek.

(a) The draw of the Franklin Street bridge, mile 0.5 at Michigan City, shall be operated as follows:

(1) From March 16 through November 30, the draw shall open on signal; except from 6:15 a.m. to 11:15 p.m., Monday through Sunday, the draw need open only from three minutes before to three minutes after the quarter-hour and three-quarter hour.

(2) From December 1 through March 15, the draw shall open on signal if at least 12-hours advance notice is provided prior to intended time of passage.

(b) The draw of the Amtrak bridge, mile 0.9 at Michigan City, shall open on signal; except, from December 1 through March 15, the bridge shall open on signal if at least 12-hours advance notice is provided prior to intended time of passage.

(c) Public vessels of the United States, state or local vessels used for public safety, vessels in distress, and vessels seeking shelter from severe weather shall be passed through the draws of each bridge as soon as possible.

Dated: February 5, 2001.
James D. Hull,
Rear Admiral, U.S. Coast Guard, Commander, Ninth Coast Guard District.

[FR Doc. 01-4884 Filed 2-27-01; 8:45 am]

BILLING CODE 4910-15-U